NUCLEAR REGULATORY COMMISSION

Sunshine Act; Meeting

Agency Holding the Meeting: Nuclear Regulatory Commission.

Date: Weeks of July 15, 22, 29, August 5, 12, 19, 2002.

Place: Commissioner's Conference Room, 11555 Rockville Pike, Rockville, Maryland.

Status: Public and Closed.

Matters to be Considered:

Week of July 15, 2002

There are no meetings scheduled for the Week of July 15, 2002.

Week of July 22, 2002—Tentative

There are no meetings scheduled for the Week of July 22, 2002.

Week of July 29, 2002—Tentative

There are no meetings scheduled for the Week of July 29, 2002.

Week of August 5, 2002—Tentative

There are no meetings scheduled for the Week of August 5, 2002.

Week of August 12, 2002—Tentative

Tuesday, August 13, 2002

9:30 a.m.—Briefing on Special Review Group Response to the Differing Professional Opinion/Differing Professional View (DPO/DPV) Review (Public Meeting) (Contact: John Craig, 301-415-1703)

This meeting will be webcast live at the Web address— www.nrc.gov.

Week of August 19, 2002—Tentative

Wednesday, August 21, 2002

9 a.m. Briefing of NRC International Activities (Public Meeting) (Contact: Janice Dunn Lee, 301-415-1780).

This meeting will be webcast live at the Web address— www.nrc.gov.

2 p.m. Meeting with Organization of Agreement States (OAS) and Conference of Radiation Control Program Directors (CRCPD), (Public Meeting), (Contact: John Zabko, 301-415-2308).

This meeting will be webcast live at the Web address— www.nrc.gov.

*The schedule for Commission meetings is subject to change on short notice. To verify the status of meetings call (recording)—(301) 415-1292. Contact person for more information: David Louis Gamberoni (301) 415-1651.

* * * * *

Additional Information: By a vote of 4-0 on July 9, the Commission determined pursuant to U.S.C. 552b(e) and § 9.107(a) of the Commission's rules that “Discussion of Intragovernmental Issues (Closed—Ex. 9)” be held on July 10, and on less than one week's notice to the public.

By a vote of 4-0 on July 8 and 9, the Commission determined pursuant to U.S.C. 552b(e) and § 9.107(a) of the Commission's rules that “Discussion of Security Issues (Closed—Ex. 1)” be held on July 11, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 11, 2002.
David Louis Gamberoni,
Technical Coordinator, Office of the Secretary.

[FR Doc. 02-17971 Filed 7-12-02; 11:29 am]

BILLING CODE 7590-01-M